DEPARTMENT OF HOUSING AND URBAN DEVELOPMENT

[Docket No. FR-4572-D-27]

Revocation and Redelegation of Authority to the Deputy Assistant Secretary for Finance and Budget

AGENCY: Office of the Assistant Secretary for Housing-Federal Housing Commissioner, HUD.

ACTION: Notice of revocation and redelegation of authority.

SUMMARY: In this notice, the Assistant Secretary for Housing-Federal Housing Commissioner and the General Deputy Assistant Secretary for Housing-Deputy Federal Housing Commissioner advise the public that they have redelegated authority to the Deputy Assistant Secretary for Finance and Budget all responsibilities related to the sale of Secretary-held single family and multifamily mortgages.

EFFECTIVE DATE: August 20, 2002.

FOR FURTHER INFORMATION CONTACT: Sandy Allison, Associate Deputy Assistant Secretary for Finance and Budget, Office of Housing, Department of Housing and Urban Development, Room 9110, Washington, DC 20410, phone (202) 708-2601. Persons with hearing or speech impairments may call HUD's TTY number at (202) 708-1455 or the Federal Information Relay Service's TTY number at (800) 877-8339. Other than the “800” number, the telephone numbers listed are not toll-free.

SUPPLEMENTARY INFORMATION: In the past, the Assistant Secretary for Housing has redelegated asset sale related authority to Office of Housing Deputy Assistant Secretaries in several offices. Prior to August 20, 2002, authority to sell single-family housing mortgages was redelegated to the Deputy Assistant Secretary for Single Family Housing programs, and authority to sell Secretary-held multifamily mortgages was redelegated to the Office of Housing-FHA Comptroller.

Note: Authority to sell Secretary-held mortgages is distinguishable from authority to sell HUD-owned properties and does not include authority to execute mortgage workouts.

Recently, the Office of Finance and Budget (FAB) was established within the Office of Housing, and the Office of the Housing-FHA Comptroller was made a component office under FAB. FAB is charged with overseeing and administering all financial and budget programs for the Office of Housing. Accordingly, on August 20, 2002 the Assistant Secretary for Housing-Federal Housing Commissioner determined that responsibilities related to sales of Secretary-held mortgages appropriately belong within FAB and signed this redelegation to permit FAB to carry out this responsibility. All prior redelegations, to other offices, were revoked.

Accordingly, the Assistant Secretary for Housing-Federal Housing Commissioner and the General Deputy Assistant Secretary for Housing-Deputy Federal Housing Commissioner redelegate and revoke authority as follows:

Section A.: Authority Redelegated: The Deputy Assistant Secretary for the Office of Finance and Budget is redelegated all authority necessary to sell Secretary-held mortgages. This authority includes, but is not limited to, determining the terms of and process for conducting any sale; executing all agreements necessary, on behalf of the Secretary, pursuant to which mortgages may be sold; and taking any actions necessary to consummate mortgage sales.

Section B.: Authority to Further Delegate: The Deputy Assistant Secretary for Finance and Budget may further redelegate the authority redelegated in Section A. Any redelegation must be in writing, and a copy of the redelegation will be submitted to the Assistant Secretary for Housing-Federal Housing Commissioner.

Section C.: Limitation: The authority redelegated in Section A. does not include authority to waive regulations.

Section D.: Authority Revoked: All prior redelegations from the Assistant Secretary for Housing-Federal Housing Commissioner to sell Secretary-held mortgages, including the redelegations to sell Secretary-held mortgages at 47 FR 30653, July 14, 1982 (single family mortgages), and 62 FR 766, January 6, 1997 (multifamily mortgages), are hereby revoked.

Authority: Sec. 7(d) of the Department of Housing and Urban Development Act (42 U.S.C. 3535(d)).

Dated: August 20, 2002.
John C. Weicher,
Assistant Secretary for Housing-Federal Housing Commissioner.

[FR Doc. 02-29938 Filed 11-25-02; 8:45 am]

BILLING CODE 4210-27-P